DEPARTMENT OF TRANSPORTATION

Federal Aviation Administration

14 CFR Part 39

[Docket No. FAA-2005-22402; Directorate Identifier 2005-NM-133-AD]

RIN 2120-AA64

Airworthiness Directives; Sabreliner Model NA-265, NA-265-20, NA-265-30, NA-265-40, NA-265-50, NA-265-60, NA-265-65, NA-265-70, and NA-265-80 Series Airplanes

AGENCY: Federal Aviation Administration (FAA), Department of Transportation (DOT).

ACTION: Notice of proposed rulemaking (NPRM); correction.

SUMMARY: The FAA is correcting a typographical error in an NPRM that was published in the Federal Register on September 14, 2005 (70 FR 54318). The error resulted in an incorrect Docket No. The NPRM applies to certain Sabreliner Model NA-265, NA-265-20, NA-265-30, NA-265-40, NA-265-50, NA-265-60, NA-265-65, NA-265-70, and NA-265-80 series airplanes. The NPRM would require repetitive inspections for discrepancies in the front and rear spars of the wing in the area of the wing center section, and in the lugs on the rear spar and wing trailing edge panel rib, and corrective actions if necessary. The NPRM also would require inspections for fuel leaks of the front and rear spars of the wing, and for discrepancies in the front and rear spars of the wing in the area of the wing center section, and in the lugs on the rear spar and wing trailing edge panel rib; and related investigative and corrective actions, if necessary.

FOR FURTHER INFORMATION CONTACT: T.N. Baktha, Aerospace Engineer, Airframe Branch, ACE-118W, FAA, Wichita Aircraft Certification Office, 1801 Airport Road, room 100, Mid-Continent Airport, Wichita, Kansas 67209; telephone (316) 946-4155; fax (316) 946-4407.

SUPPLEMENTARY INFORMATION: On September 6, 2005, the FAA issued a notice of proposed rulemaking (NPRM) to amend 14 CFR part 39 to include an AD that would apply to certain Sabreliner Model NA-265, NA-265-20, NA-265-30, NA-265-40, NA-265-50, NA-265-60, NA-265-65, NA-265-70, and NA-265-80 series airplanes. That NPRM was published in the Federal Register on September 14, 2005 (70 FR 54318). That NPRM proposed to require repetitive inspections for discrepancies in the front and rear spars of the wing in the area of the wing center section, and in the lugs on the rear spar and wing trailing edge panel rib, and corrective actions if necessary. That NPRM also proposed to require repetitive inspections for fuel leaks of the front and rear spars of the wing, and for discrepancies in the front and rear spars of the wing in the area of the wing center section, and in the lugs on the rear spar and wing trailing edge panel rib; and related investigative and corrective actions, if necessary.

As published, that NPRM specifies an incorrect Docket No. (i.e., FAA-2005-20402) throughout preamble and the regulatory text of the AD. The correct Docket No. is FAA-2005-22402.

No other part of the regulatory information has been changed; therefore, the NPRM is not republished in the Federal Register.

The last date for submitting comments to the NPRM remains October 31, 2005.

§ 39.13 [Corrected]

In the Federal Register of September 14, 2005, on page 54320, in the third column, paragraph 2. of PART 39—AIRWORTHINESS DIRECTIVES of NPRM, Docket No. FAA-2005-22402, Directorate Identifier 2005-NM-133-AD is corrected to read as follows:

* * * * *

Sabreliner Corporation: Docket No. FAA-2005-22402; Directorate Identifier 2005-NM-133-AD.

* * * * *

Issued in Renton, Washington, on September 26, 2005.
Ali Bahrami,
Manager, Transport Airplane Directorate, Aircraft Certification Service.

[FR Doc. 05-19557 Filed 9-29-05; 8:45 am]

BILLING CODE 4910-13-P